SMALL BUSINESS ADMINISTRATION

[Disaster Declaration # 11198]

Kentucky Disaster # KY-00014

AGENCY: U.S. Small Business Administration.

ACTION: Notice.

SUMMARY: This is a Notice of the Presidential declaration of a major disaster for Public Assistance Only for the Commonwealth of Kentucky (FEMA-1746-DR), dated 02/21/2008.

Incident: Severe Storms, Tornadoes, Straight-line Winds, and Flooding.

Incident Period: 02/05/2008 through 02/06/2008.

EFFECTIVE DATE: 02/21/2008.

Physical Loan Application Deadline Date: 04/21/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 02/21/2008, Private Non-Profit organizations that provide essential services of a governmental nature may file disaster loan applications at the address listed above or other locally announced locations.

The following areas have been determined to be adversely affected by the disaster:

Primary Counties:Adair, Allen, Bath, Carlisle, Casey, Estill, Franklin, Grayson, Hardin, Meade, Mercer, Metcalfe, Monroe, Morgan, Muhlenberg, Shelby.

The Interest Rates are:

Other (Including Non-Profit Organizations) With Credit Available Elsewhere | 5.250
Businesses and Non-Profit Organizations Without Credit Available Elsewhere | 4.000

The number assigned to this disaster for physical damage is 11198.

(Catalog of Federal Domestic Assistance Number 59008)

Herbert L. Mitchell,
Associate Administrator for Disaster Assistance.

[FR Doc. E8-6554 Filed 3-28-08; 8:45 am]

BILLING CODE 8025-01-P